DEPARTMENT OF THE INTERIOR

Bureau of Land Management

[MT-050-1610-DQ-018E]

Notice of Availability of the Proposed Resource Management Plan and Final Environmental Impact Statement (PRMP/FEIS) for the Dillon Field Office, Montana

AGENCY: Bureau of Land Management, Interior.

ACTION: Notice of availability.

SUMMARY: Under the authority of the Federal Land Policy and Management Act (FLPMA) of 1976 and in accordance with the National Environmental Policy Act (NEPA) of 1969, the Bureau of Land Management (BLM) has prepared a Proposed Resource Management Plan and Final Environmental Impact Statement (PRMP/FEIS) for public lands and resources administered by the BLM's Dillon Field Office. The PRMP/FEIS provides direction and guidance for the management of approximately 900,000 acres of public land and 1.3 million acres of Federal mineral estate located in Beaverhead and Madison Counties in southwestern Montana and replaces the Dillon Management Framework Plan approved in September 1979.

DATES: BLM Planning Regulations (43 CFR 1610.5-2) state that any person who participated in the planning process, and has an interest that may be adversely affected, may protest. The protest must be filed within 30 days of the date that the Environmental Protection Agency publishes this notice in the Federal Register. Instructions for filing a protest are described in the “Dear Reader” letter in the PRMP/FEIS and are also included in the SUPPLEMENTARY INFORMATION section of this notice. The date ending the protest period will be announced through public notices, media news releases, newsletter mailings, and on the Dillon RMP Web site at http://www.mt.blm.gov/dfo/rmp after publication of the Notice of Availability by the Environmental Protection Agency. No extensions will be granted.

ADDRESSES: Documents pertinent to the PRMP/FEIS will be available for public inspection at the Dillon Field Office, 1005 Selway Drive, Dillon, Montana during regular business hours, 7:45 a.m. to 4:30 p.m., Monday through Friday, except holidays. Interested persons may also review the PRMP/FEIS on the Internet at http://www.mt.blm.gov/dfo/rmp and at locations in and near the planning area as detailed in the SUPPLEMENTARY INFORMATION section.

Protests must be submitted in writing and sent by regular mail to: Director (210), Bureau of Land Management, Attention: Brenda Williams, P.O. Box 66538, Washington, DC 20035, or by overnight mail (i.e., Federal Express) to: Director (210), Bureau of Land Management, Attention: Brenda Williams, 1620 L Street, NW., Suite 1075, Washington, DC 20036. See the SUPPLEMENTARY INFORMATION section for additional information on filing protests.

FOR FOR FURTHER INFORMATION CONTACT: Renee Johnson, RMP Project Manager, 1005 Selway Drive, Dillon, Montana, 59725, telephone (406-683-8016), fax (406-683-2970), or e-mail (MT_Dillon_RMP@blm.gov). Do not send protests to these addresses—see the SUPPLEMENTARY INFORMATION section for instructions on submitting a protest.

SUPPLEMENTARY INFORMATION: The Dillon Field Office planning area is located in the southwestern portion of Montana in Beaverhead and Madison Counties. The area addressed in the plan contains 901,226 acres of public surface estate and 1,354,710 acres of Federal mineral estate administered by the BLM Dillon Field Office. The PRMP/FEIS focuses on the principles of multiple use and sustained yield as prescribed by Section 202 of the FLPMA. Beaverhead and Madison Counties participated in development of the plan as cooperating agencies with special expertise.

The Draft Resource Management Plan and Environmental Impact Statement (DRMP/EIS) made available for review on April 9, 2004, addressed four alternatives: Alternative A (No Action/Continuation of Current Management), Alternative B (Agency Preferred), and two other alternatives (Alternatives C and D) that provide for variable levels of resource protection, commodity production, and land and resource allocations and uses. These alternatives were developed based on extensive public input and internal BLM discussions. The public involvement and collaboration process implemented for this planning effort began with a situation assessment conducted prior to scoping to identify public involvement strategies, and continued with five open houses in September and October 2001, an Information Fair in April 2002 to discuss and gather data to be used in the plan, release of reports on Wild and Scenic River and Area of Critical Environmental Concern (ACEC) findings in 2002 and 2003, respectively, release of an RMP Digest document in January 2003 describing the current situation followed by nine alternative development workshops in February 2003, incorporation of recommendations from three Western Montana RAC subgroups, five open houses in May 2004 after release of the DRMP/EIS, two oral comment meetings, and additional RAC review.

The major issues addressed in the alternatives include upland and riparian management, forest and woodland management, noxious weeds, sage grouse and westslope cutthroat trout conservation, commercial uses (including livestock grazing, mineral development, oil and gas leasing, right-of-ways and communication use areas), Areas of Critical Environmental Concern (ACECs), Wild and Scenic Rivers, and travel management.

Adjustments and clarifications have been made to Alternative B, the Preferred Alternative in the DRMP/EIS, after careful consideration of both public and internal comments received on the draft. As modified, Alternative B is now the Proposed Plan as presented in the PRMP/FEIS, providing a balance of resource uses and protections. These adjustments did not result in any significant change to the plan outside the range of alternatives detailed in the draft. The Proposed Plan will help BLM meet its mandate of multiple use and sustained yield, and recommends the designation of eight new ACECs. Restrictions on uses or activities in ACECs will only occur to the degree necessary to prevent degradation of relevant and important values for which an area is designated.

Documents pertinent to the PRMP/FEIS are available for public inspection at the Dillon Field Office, 1005 Selway Drive, Dillon, Montana during regular business hours, 7:45 a.m. to 4:30 p.m., Monday through Friday, except holidays. Copies of the PRMP/FEIS have been sent to individuals, agencies, and groups as requested or as required by regulation or policy. Interested persons may also view the PRMP/FEIS on the Internet at http://www.mt.blm.gov/dfo/rmp or at one of the following locations in and near the planning area:

Beaverhead County Courthouse, Commissioner's Office, Dillon

BLM Butte Field Office

BLM Dillon Field Office

BLM Ennis Field Station

BLM Missoula Field Office

Bozeman Public Library

Dillon Public Library

Ennis Public Library

Lima Town Hall

Madison County Courthouse, Commissioner's Office, Virginia City

Red Rocks Refuge, Lakeview

Sheridan Forest Service Office

Twin Bridges Public Library

Whitehall Public Library

Wisdom Forest Service Office

Wise River Forest Service Office

The resource management planning process provides an opportunity for public, administrative review of proposed land use plan decisions contained in the PRMP/FEIS during a 30-day protest period. Any person who participated in the planning process for this PRMP/FEIS that has an interest which is or may be adversely affected may protest approval of the land use plan decisions contained within the PRMP/FEIS during this 30-day period. Instructions for filing a protest with the Director of the BLM regarding the PRMP/FEIS may be found at 43 CFR 1610.5. A protest may only raise those issues that were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112 and e-mails to Brenda_Hudgens-Williams@blm.gov. Please direct the follow-up letter to the appropriate address provided below. To be considered complete, your protest must contain (at a minimum) the following information:

(1) Name, mailing address, telephone number and the affected interest of the person filing the protest(s);

(2) A statement of the issue or issues being protested;

(3) A statement of the part or parts of the proposed plan being protested. To the extent possible, reference specific pages, paragraphs, and sections of the document;

(4) A copy of all documents addressing the issue or issues that were submitted during the planning process or an indication of the date the issue or issues were discussed with the BLM for the record;

(5) A concise statement explaining why the proposed decision is believed to be incorrect. This is a critical part of your protest. Document all relevant facts, as much as possible. A protest merely expressing disagreement with the State Director's proposed decision without providing any supporting data will not be considered a valid protest. All protests must be in writing and mailed to the following address: Regular Mail: Director (210), Bureau of Land Management, Attn: Brenda Williams, P.O. Box 66538, Washington DC, 20035. Overnight Mail: Director (210), Bureau of Land Management, Attn: Brenda Williams, 1620 L Street, NW., Suite 1075, Washington, DC 20036. To be considered timely, your protest must be postmarked no later than the last day of the protest period. The date ending the protest period will be announced through public notices, media news releases, newsletter mailings, and on the Dillon RMP Web site at http://www.mt.blm.gov/dfo/rmp after publication of the Notice of Availability by the Environmental Protection Agency. No extensions will be granted. Though not a requirement, we suggest you send your protest by certified mail, return receipt requested.

The Director will promptly render a decision on the protest. This decision will be in writing and will be sent to the protesting party by certified mail, return receipt requested. The decision of the Director shall be the final decision of the Department of the Interior. An Approved Plan/Record of Decision will be made available to the public following the resolution of any protests. Approval will be withheld on any portion of the PRMP/FEIS under protest until final action has been completed on such protest.

Please note that protests and comments, including names and street addresses, are available for public review and/or release under the Freedom of Information Act (FOIA). Individual respondents may request confidentiality. Respondents who wish to withhold name and/or street address from public review or from disclosure under FOIA must state this prominently at the beginning of the written comment. Such requests will be honored to the extent allowed by law. All submissions from organizations or businesses, and from individuals identifying themselves as representatives or official organizations or business, will be made available for public inspection in their entirety.

Dated: January 21, 2005.
Martin C. Ott,
State Director.

[FR Doc. 05-8541 Filed 4-28-05; 8:45 am]

BILLING CODE 4310-$$-P